DEPARTMENT OF COMMERCE

International Trade Administration

[C-580-837]

Certain Cut-to-Length Carbon-Quality Steel Plate From the Republic of Korea: Rescission of Countervailing Duty Administrative Review

AGENCY: Import Administration, International Trade Administration, Department of Commerce

ACTION: Notice of rescission of countervailing duty administrative review.

SUMMARY: On March 22, 2001, in response to a request from Dongkuk Steel Mill Co., Ltd. (DSM) (respondent), the Department of Commerce (Department) initiated an administrative review of the countervailing duty order on certain cut-to-length carbon-quality steel plate from the Republic of Korea. The review covers the period July 26, 1999 through December 31, 2000. In accordance with 19 CFR 351.213(d)(1), the Department is rescinding this review because respondent has withdrawn its request for review.

EFFECTIVE DATE: July 25, 2001.

FOR FURTHER INFORMATION CONTACT: Tipten Troidl or Darla Brown, Office of AD/CVD Enforcement VI, Import Administration, U.S. Department of Commerce, Room 4012, 14th Street and Constitution Avenue, NW., Washington, DC 20230; telephone (202) 482-2786.

SUPPLEMENTARY INFORMATION: On February 28, 2001, the Department received from DSM a request for an administrative review of the countervailing duty order on certain cut-to-length carbon-quality steel plate from Korea for the period July 26, 1999 through December 31, 2000. On March 22, 2001, the Department published in the Federal Register (65 FR 6587) a notice of “Initiation of Countervailing Duty Administrative Review” initiating the administrative review.

On June 15, 2001, respondent withdrew its request for review. The applicable regulation, 19 CFR 351.213(d)(1), states that if a party that requested an administrative review withdraws the request within 90 days of the date of publication of the notice of initiation of the requested review, the Secretary will rescind the review. Because DSM requested that the Department withdraw the administrative review within the appropriate time period stated in 19 CFR 351.213(d)(1), and it was the only party to request this review, we find it reasonable to accept the party's withdrawal of its request for review. Therefore, we are rescinding the review of the countervailing duty order on certain cut-to-length carbon-quality steel plate from the Republic of Korea for DSM covering the period July 26, 1999 through December 31, 2000.

This notice is issued and published in accordance with 19 CFR 351.213(d)(4) and Section 777(i) of the Act.

Dated: July 18, 2001.
Bernard T. Carreau,
Deputy Assistant Secretary for Import Administration.

[FR Doc. 01-18564 Filed 7-24-01; 8:45 am]

BILLING CODE 3510-DS-P